DEPARTMENT OF THE INTERIOR

Bureau of Land Management

[LLNVS01000. L51010000.PQ0000. LVRWF09F1840; N-094470; MO#4500108571; TAS: 14X5017]

Notice of Intent To Prepare an Environmental Impact Statement and a Possible Land Use Plan Amendment for the Proposed Crescent Peak Wind Project, West of Searchlight in Clark County, Nevada; and a Notice of Public Lands Segregation

AGENCY: Bureau of Land Management, Department of the Interior.

ACTION: Notice of intent.

SUMMARY: As requested by Crescent Peak Renewables, LLC, and in compliance with the National Environmental Policy Act of 1969, as amended (NEPA), the Bureau of Land Management (BLM), Las Vegas Field Office will prepare an Environmental Impact Statement (EIS), which may include a Plan Amendment to the 1998 Las Vegas Resource Management Plan (RMP) or subsequent RMP, for a proposed wind energy project located on public lands 10 miles west of Searchlight in Clark County, Nevada. Publication of this Notice initiates the scoping process and opens a 90-day public comment period. The BLM is considering a Plan Amendment to change the Visual Resource Management classification of the project area. Through a separate ongoing process, the 1998 Las Vegas RMP is being revised. If the BLM issues a Record of Decision (ROD) before the RMP revision is completed, and a change to the plan is determined to be necessary, then the ROD would amend the 1998 RMP. If the ROD comes after RMP revision is completed, and a change to the plan is necessary, then the ROD would amend the revised RMP. Publication of this Notice serves to segregate the public lands from appropriation under the public land laws, including location under the Mining Law, but not the Mineral Leasing Act or the Materials Act, subject to valid existing rights. This Notice initiates the public scoping process and the segregation.

DATES: Comments on issues may be submitted in writing until June 13, 2018. The date(s) and location(s) of the scoping meetings will be announced at least 15 days prior in a news release and on the BLM website at: http://bit.ly/2tkVGC5.

Comments must be received prior to the close of the scoping period or no later than 15 days after the last public meeting, whichever is later, to be included in the Draft EIS. The BLM will provide additional opportunities for public participation upon publication of the Draft EIS.

ADDRESSES: Submit comments related to the project by any of the following methods:

• Email: blm_nv_sndo_crescentpeak@blm.gov.

• Fax: (702) 515-5155, attention Gayle Marrs-Smith.

• Mail: BLM, Las Vegas Field Office, Attn: Gayle Marrs-Smith, 4701 North Torrey Pines Drive, Las Vegas, NV 89130-2301.

FOR FURTHER INFORMATION CONTACT: For further information and/or to have your name added to the mailing list, send requests to: Gayle Marrs-Smith, Field Manager, at telephone (702) 515-5199; or address 4701 North Torrey Pines Drive, Las Vegas, NV 89130-2301; or email blm_nv_sndo_crescentpeak@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: On November 16, 2015, Crescent Peak Renewables, LLC, submitted an application to BLM requesting authorization to construct, operate, maintain, and terminate an up-to-500 megawatt wind energy generation facility—Crescent Peak Renewables (N-94470). It would be located on four sites and constructed in two phases. The project area is 22 miles long (north and south) and 5 miles wide (east and west), covers 32,531 acres of public land and is located 10 miles west of Searchlight, Nevada.

Due to the size and potential impacts of the Crescent Peak wind project, the BLM is preparing an EIS. The purpose of the public scoping process is to identify relevant issues that will influence the scope of the environmental analysis, including alternatives, and to guide the process for developing the potential Plan Amendment. The BLM has identified the following preliminary issues: biological resources, visual resources, cultural resources, tribal interests, recreation, and cumulative impacts.

The BLM will use the NEPA public commenting process to satisfy the public involvement process for Section 106 of the National Historic Preservation Act (NHPA) (54 U.S.C. 306108), as provided for in 36 CFR 800.2(d)(3). The information about historic and cultural resources within the area potentially affected by the project will assist the BLM in identifying and evaluating impacts to such resources in the context of both NEPA and Section 106 of the NHPA.

The BLM will consult with Native American tribes on a government-to-government basis in accordance with applicable laws, regulations, Executive Order 13175, and other policies. Tribal concerns will be given due consideration, including impacts on Indian Trust assets. The Federal, State, and local agencies, along with other stakeholders that may be interested or affected by the BLM's decision on this project, are invited to participate in the scoping process and, if eligible, may request or be requested by the BLM to participate as a cooperating agency.

Before including your address, phone number, email address, or other personal identifying information in your comment, you should be aware that your entire comment—including your personal identifying information—may be made publicly available at any time. While you can ask us in your comment to withhold your personal identifying information from public review, we cannot guarantee that we will be able to do so.

Segregation of the Public Lands

In 2013, the BLM published a Final Rule, Segregation of Lands—Renewable Energy (78 FR 25204), that amended the regulations found in 43 CFR 2090 and 2800. The provisions of the Final Rule allow the BLM to temporarily segregate public lands within a solar or wind application area from the operation of the public land laws, including the Mining Law, by publication of a Federal Register Notice. This temporary segregation does not affect valid existing rights of mining claims located before this segregation notice. The purpose of this temporary segregation is to allow for the orderly administration of the public lands associated with the BLM's consideration of this renewable energy ROW. Licenses, permits, cooperative agreements, or discretionary land use authorizations of a temporary nature will not impact lands identified in this Notice and may be allowed with the approval of the authorized officer of the BLM. The lands segregated under this Notice are legally described as follows:

Mount Diablo Meridian, Clark County, Nevada

Mount Diablo Meridian, Nevada

T. 27 S., R. 61 E.,

Sec. 27, E½, E½NW¼, and E½SW¼;

Sec. 33, SE¼NE¼, E½SE¼, and S½SW¼;

Sec. 34.

T. 28 S., R. 60 E.,

Sec. 1, lot 4, S½NW¼, SW¼, and S½SE¼;

Sec. 12;

Sec. 13, except Patented Mineral Survey No. 2594.

T. 28 S., R. 61 E.,

Secs. 3 and 4;

Sec. 5, lot 1 and SE¼NE¼;

Sec. 6, S½SE¼;

Secs. 7, 8, and 9;

Sec. 10, N½NE¼, N½NW¼, and SE¼SW¼;

Sec. 13 and 14, except Patented Mineral Survey No. 4490 and 4579;

Sec. 15, SE¼NE¼, SE¼SW¼, and SE¼;

Sec. 16, N½NE¼ and N½NW¼;

Sec. 17;

Sec. 18, except Patented Mineral Survey No. 2594;

Sec. 22, except Patented Mineral Survey No. 2945 and 2940;

Sec. 23, except Patented Mineral Survey No. 2776, 4799, and 4579;

Sec. 24, except Patented Mineral Survey No. 4579;

Sec. 25, except Patented Mineral Survey No. 2632;

Sec. 26, except Patented Mineral Survey No. 2939, 2687, and 4799;

Sec. 27, except Patented Mineral Survey No. 2939, 2687, and 2945;

Sec. 33, E½NE¼ and E½SE¼;

Secs. 34 and 35, except Patented Mineral Survey No. 2687;

Sec. 36.

T. 28 S., R. 62 E.,

Secs. 18, 19, and 30;

Sec. 31, lots 5 thru 12, NE¼, and E½NW¼.

T. 29 S., R. 61 E.,

Sec. 1, lots 1 thru 4, S½NE¼, and S½NW¼, except Patented Mineral Survey No. 3580;

Sec. 2, lots 1 thru 4, S½NE¼, and S½NW¼;

Sec. 3, lots 1 thru 4, S½NE¼, and S½NW¼;

Secs. 10 thru 15 and secs. 22 thru 26.

T. 29 S., R. 62 E.,

Sec. 6, lots 3 thru 7, SE¼NW¼, and E½SW¼;

Sec. 32, SE¼SE¼;

Sec. 33, NW¼NE¼, NE¼NW¼, S½NE¼, S½NW¼, and S½.

T. 30 S., R. 62 E.,

Secs. 3 and 4;

Sec. 5, except Patented Mineral Survey No. 4803;

Secs. 6, 8, 9, and 10;

Sec. 15, except Patented Mineral Survey No. 2652;

Secs. 16, 22 thru 26, and 36.

T. 30 S., R. 63 E.,

Secs. 30 and 31.

T. 31 S., R. 63 E.,

Sec. 6.

As provided in the Final Rule, the segregation of lands in this Notice will not exceed two years from the date of publication of this Notice, though it can be extended for up to two additional years through publication of a new notice in the Federal Register. Termination of the segregation occurs on the earliest of the following dates: upon issuance of a decision by the authorized officer granting, granting with modifications, or denying the application for a right-of-way; automatically at the end of the segregation; or upon publication of a Federal Register Notice of termination of the segregation.

Upon termination of segregation of these lands, all lands subject to this segregation will automatically reopen to appropriation under the public land laws.

(Authority: 43 CFR 2800 and 2090)

Gayle Marrs-Smith,
Las Vegas Field Manager.

[FR Doc. 2018-05273 Filed 3-14-18; 8:45 am]

BILLING CODE 4310-HC-P